DEPARTMENT OF TRANSPORTATION

Office of the Secretary

14 CFR Parts 217, 241, 248, 250, 291, 298 and 374a

[Docket No. OST 2006-26053]

RIN 2139-AA11

Submitting Airline Data via the Internet

AGENCY: Office of the Secretary, DOT.

ACTION: Notice of public meeting.

SUMMARY: The U.S. Department of Transportation (DOT) is hosting a public meeting to discuss the submission of air carrier traffic, financial, and consumer reports via a secure internet connection. The public meeting was requested by the Air Transport Association. DOT staff will demonstrate e-filing procedures and be available to answer questions. During the meeting, the DOT will propose a pilot program for a limited number of air carriers to test the internet filing system prior to the system becoming operational. A cross section of major, national, regional, commuter and foreign air carriers will be invited to volunteer to participate in the pilot program.

DATES: The meeting will be held June 21, 2007, from 1 p.m. to 4 p.m.

ADDRESSES: The meeting will be held at the new DOT headquarters building at 1200 New Jersey Avenue, SE., Washington, DC 20590. The room number will be announced at a later date. Persons attending the public meeting must pass through the building security; therefore, we are requesting that you register for attendance by e-mailing or calling Ms. Sharon Herman at Sharon.herman@dot.gov or (202) 366-9059.

FOR FURTHER INFORMATION CONTACT: Bernie Stankus, Office of Airline Information, RTS-42, Research and Innovative Technology Administration, Bureau of Transportation Statistics (BTS), telephone number (202) 366-4387, fax number (202) 366-3383 or e-mail bernard.stankus@dot.gov.

SUPPLEMENTARY INFORMATION: The notice of proposed rulemaking (NPRM) was published on December 20, 2006 (71 FR 76226). You may review comments to the NPRM at http://www.dms.dot.gov, Docket 26053.

Background

Receiving and processing aviation data is an essential business process for the DOT. To increase efficiency and reduce costs of the filing process to both the air carriers and the government, DOT has proposed that all aviation data collected by the BTS be transmitted via the internet (e-filing). To the maximum extent practicable, the proposed e-filing system will be user friendly. Automated, built-in data edits would alert filers of incomplete information, thus reducing filing errors and the need for corrective re-processing. E-filing is more secure than attaching files to e-mails. E-filing does not have the size limit constraints encountered by attachments to e-mail submissions. E-filing provides the submitters with immediate confirmation that the filing has been received by BTS. E-filing should eliminate the need for BTS to key punch hard copy records into its various data bases.

During this public meeting, DOT representatives will answer questions about the proposed system, the pilot program and gather additional public comments. A summary of the public meeting will be placed in the rulemaking docket.

Issued in Washington, DC, on May 8, 2007.
Donald W. Bright,
Assistant Director, Airline Information, Bureau of Transportation Statistics.

[FR Doc. E7-9210 Filed 5-16-07; 8:45 am]

BILLING CODE 4910-HY-P